DEPARTMENT OF THE INTERIOR

Bureau of Land Management

[LLWO210000.16X.L11100000.PH0000 LXSISGST0000]

Notice of Proposed Withdrawal; Sagebrush Focal Areas; Idaho, Montana, Nevada, Oregon, Utah, and Wyoming and Notice of Intent To Prepare an Environmental Impact Statement

Correction

AGENCY: Bureau of Land Management, Interior.

ACTION: Correction Notice.

SUMMARY: This action corrects the language found in the SUPPLEMENTARY INFORMATION section of a notice published in the Federal Register on Thursday, September 24, 2015 (80 FR 57635 to 57637).

On page 57636, column 2, beginning on line 9, the text which reads “The Sagebrush Focal Areas include all public and National Forest System lands identified in the townships below:”, is hereby corrected to read, “The Sagebrush Focal Areas consist of those public and National Forest System lands within the townships below that are identified as Sagebrush Focal Areas on the map posted on the BLM Web site at http://www.blm.gov/wo/st/en/prog/more/sagegrouse.html:”

Steven A. Ellis,
Deputy Director, Operations.

[FR Doc. 2015-26633 Filed 10-19-15; 8:45 am]

BILLING CODE 4310-84-P